INTERNATIONAL TRADE COMMISSION

[Investigation No. 337-TA-1157]

Certain Female Fashion Dresses, Jumpsuits, Maxi Skirts, and Accoutrements; Notice of a Commission Determination Not To Review an Initial Determination Granting a Joint Motion To Terminate the Investigation Based on Settlement; Termination of the Investigation

AGENCY: U.S. International Trade Commission.

ACTION: Notice.

SUMMARY: Notice is hereby given that the U.S. International Trade Commission has determined not to review the presiding administrative law judge's (“ALJ”) initial determination (“ID”) (Order No. 9) granting a joint motion to terminate the investigation based on a settlement agreement. The investigation is terminated in its entirety.

FOR FURTHER INFORMATION CONTACT: Cathy Chen, Esq., Office of the General Counsel, U.S. International Trade Commission, 500 E Street SW, Washington, DC 20436, telephone (202) 205-2392. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on May 29, 2019, based on a complaint filed on behalf of Style Pantry LLC (“Style Pantry”) of Beverly Hills, California. 84 FR 24816 (May 29, 2019). The complaint, as amended, alleges violations of section 337 of the Tariff Act of 1930, as amended, 19 U.S.C. 1337, based upon the importation into the United States, the sale for importation, and the sale within the United States after importation of certain female fashion dresses, jumpsuits, maxi skirts, and accoutrements by reason of false designation, false description, dilution, and obtaining sales by false claim of association, the threat or effect of which is to destroy or substantially injure an industry in the United States. The notice of investigation named Amazon.com Inc. (“Amazon”) of Seattle, Washington; Xunyun, Jiaxing Xunyung Imp & Exp Co. Ltd of Zhejiang, China; and Jianzhang Liao, Pinkqueen Apparel Inc. of Xiamen, China as respondents. The Office of Unfair Import Investigations (“OUII”) was also named as a party in this investigation.

Respondents Xunyun, Jiaxing Xunyung Imp & Exp Co. Ltd and Jianzhang Liao, Pinkqueen Apparel Inc. were found in default pursuant to 19 CFR 210.16, for failure to respond to the complaint and notice of investigation. See Order No. 7 (Dec. 3, 2019), not rev'd by Comm'n Notice (Dec. 26, 2019).

On January 22, 2020, Style Pantry and Amazon filed a joint motion to terminate the investigation based on a settlement agreement. On February 3, 2020, OUII filed a response in support of the motion.

On February 4, 2020, the ALJ issued the subject ID granting the joint motion to terminate pursuant to Commission Rule 210.21(b)(1) (19 CFR 210.21(b)(1)). See Order No. 9 at 1-2 (Feb. 4, 2020). The ALJ found that the motion to terminate complies with the Commission's rules, and there is no evidence that terminating this investigation by settlement would be contrary to the public interest. Id. at 2. No petitions for review were filed.

The Commission has determined not to review the subject ID. The investigation is terminated in its entirety.

The authority for the Commission's determination is contained in section 337 of the Tariff Act of 1930, as amended (19 U.S.C. 1337), and in Part 210 of the Commission's Rules of Practice and Procedure (19 CFR part 210).

By order of the Commission.
Dated: March 5, 2020.
William Bishop,
Supervisory Hearings and Information Officer.

[FR Doc. 2020-04924 Filed 3-10-20; 8:45 am]

BILLING CODE 7020-02-P